DEPARTMENT OF ENERGY

Federal Energy Regulatory Commission

Combined Notice of Filings #1

Take notice that the Commission received the following electric rate filings:

Docket Numbers: ER10-2061-000.

Applicants: Tampa Electric Company.

Description: Compliance Refund Report to be effective N/A.

Filed Date: 9/17/12.

Accession Number: 20120917-5066.

Comments Due: 5 p.m. ET 10/9/12.

Docket Numbers: ER10-3168-003; ER10-3125-005; ER10-3102-005; ER10-3109-005; ER10-3107-005; ER10-3100-005.

Applicants: ArcLight Energy Marketing, LLC, Washington County Power, LLC, Walton County Power, LLC, Effingham County Power, LLC, AL Sandersville, LLC, MPC Generating, LLC.

Description: Notice of Non-Material Change in Status of ArcLight Energy Marketing, LLC, et al.

Filed Date: 9/17/12.

Accession Number: 20120917-5140.

Comments Due: 5 p.m. ET 10/9/12.

Docket Numbers: ER11-4683-002; ER11-4684-002; ER11-2489-002; ER11-3620-003; ER11-2882-004; ER10-2432-003; ER10-2435-003; ER10-2440-003; ER10-2442-003; ER10-2444-003; ER10-2446-003; ER10-2449-003; ER12-1431-001; ER12-1434-001; ER12-1432-001; ER12-1435-001; ER10-3139-003.

Applicants: Elizabethtown Energy, LLC, Lumberton Energy, LLC, Hatchet Ridge Wind, LLC, Lyonsdale Biomass, LLC, ReEnergy Sterling CT Limited Partnership, Bayonne Plant Holding, L.L.C., Camden Plant Holding, L.L.C., Dartmouth Power Associates Limited Partnership, L.P., Newark Bay Cogeneration Partnership, L.P., Pedricktown Cogeneration Company LP, York Generation Company LLC, ReEnergy Ashland LLC, ReEnergy Fort Fairfield LLC, ReEnergy Livermore Falls LLC, Elmwood Park Power, LLC, ReEnergy Stratton Energy LLC, Black River Generation, LLC.

Description: Notice of Change in Status of the Riverstone MBR Entities.

Filed Date: 9/17/12.

Accession Number: 20120917-5163.

Comments Due: 5 p.m. ET 10/9/12.

Docket Numbers: ER12-2391-000.

Applicants: PJM Interconnection, L.L.C.

Description: PJM's Response to Deficiency Letter dated 9/12/2012 to be effective N/A.

Filed Date: 9/17/12.

Accession Number: 20120917-5139.

Comments Due: 5 p.m. ET 10/9/12.

Docket Numbers: ER12-2391-001.

Applicants: PJM Interconnection, L.L.C.

Description: PJM's Response to Deficiency Letter dated 9/12/2012 to be effective 10/1/2012.

Filed Date: 9/18/12.

Accession Number: 20120918-5000.

Comments Due: 5 p.m. ET 10/9/12.

Docket Numbers: ER12-2639-000.

Applicants: Ocotillo Express LLC.

Description: Application for Market-Based Rate Authority to be effective 11/16/2012.

Filed Date: 9/17/12.

Accession Number: 20120917-5098.

Comments Due: 5 p.m. ET 10/9/12.

Docket Numbers: ER12-2640-000.

Applicants: Electric Energy, Inc.

Description: Rate Schedule to be effective 1/1/2013.

Filed Date: 9/17/12.

Accession Number: 20120917-5106.

Comments Due: 5 p.m. ET 10/9/12.

Docket Numbers: ER12-2641-000.

Applicants: Goshen Phase II LLC.

Description: Amended and Restated SFA to be effective 9/7/2012.

Filed Date: 9/17/12.

Accession Number: 20120917-5128.

Comments Due: 5 p.m. ET 10/9/12.

Docket Numbers: ER12-2642-000.

Applicants: North Eastern States, Inc.

Description: Baseline Filing to be effective 9/17/2012.

Filed Date: 9/17/12.

Accession Number: 20120917-5129.

Comments Due: 5 p.m. ET 10/9/12.

Take notice that the Commission received the following public utility holding company filings:

Docket Numbers: PH12-22-000.

Applicants: Continental Energy Systems LLC, LGB CAP ROCK LLC.

Description: FERC-65A Exemptions Notice of Material Change in Facts of Continental Energy Systems LLC.

Filed Date: 9/17/12.

Accession Number: 20120917-5144.

Comments Due: 5 p.m. ET 10/9/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2012.
Nathaniel J. Davis, Sr.,
Deputy Secretary.

[FR Doc. 2012-23582 Filed 9-24-12; 8:45 am]

BILLING CODE 6717-01-P